DEPARTMENT OF ENERGY

Federal Energy Regulatory Commission

[Project No. 14867-003]

Scott's Mill Hydro, LLC; Notice of Technical Conference

On Friday, September 27, 2024, Commission staff will hold a technical conference to seek clarification from Scott's Mill Hydro, LLC regarding its responses to additional information requests filed from February 26, 2024 through May 3, 2024 for the proposed Scott's Mill Hydroelectric Project No. 14867.

The conference will be held via teleconference beginning at 1:00 p.m. Eastern Daylight Time. Discussion topics for the technical conference are included in Appendix A.

All local, state, and federal agencies, Indian tribes, and other interested parties are invited to participate. There will be no transcript of the conference, but a summary of the meeting will be prepared for the project record. If you are interested in participating in the meeting you must contact Jody Callihan at (202) 502-8278 or jody.callihan@ferc.gov by September 25, 2024 to receive specific instructions on how to participate.

Dated: September 6, 2024.
Debbie-Anne A. Reese,
Acting Secretary.

[FR Doc. 2024-20769 Filed 9-12-24; 8:45 am]

BILLING CODE 6717-01-P